TENNESSEE VALLEY AUTHORITY

Review of Floating Houses

AGENCY: Tennessee Valley Authority.

ACTION: Notice of intent.

SUMMARY: The Tennessee Valley Authority (TVA) is conducting a review of) the recent growth in the Tennessee River Watershed of floating houses and nonnavigable houseboats designed and used primarily for human habitation and potential management actions TVA may take in response to the proliferation of these structures. As part of the study, TVA intends to prepare an environmental assessment (EA) or environmental impact statement (EIS) to assess the impacts associated with TVA's management and oversight of these structures on its reservoirs. TVA will use the environmental review process to learn the values and concerns of stakeholders; identify issues, trends, events and tradeoffs affecting TVA's policies; formulate, evaluate and compare alternative management options; provide opportunities for public review and comment; and ensure that TVA's evaluation of alternative management and policy strategies reflects a full range of stakeholder input. Public comment is invited concerning the scope of the review and environmental issues that should be addressed. This notice is provided in accordance with the Council on Environmental Quality's regulations (40 CFR parts 1500 to 1508) and TVA's procedures for implementing the National Environmental Policy Act (NEPA).

DATES: Comments must be received on or before July 29, 2014. To facilitate the scoping process, TVA will hold public scoping meetings in May and June 2014; see http://www.tva.gov/river/floatinghouses.htm for the dates and locations of scoping meetings. TVA will provide additional opportunities for public involvement upon publication of the draft EA or EIS.

ADDRESSES: Written comments should be sent to Matthew Higdon, NEPA Specialist, Tennessee Valley Authority, 400 West Summit Hill Drive (WT 11D), Knoxville, Tennessee 37902. Comments may also be entered online at the project Web site at http://www.tva.gov/river/floatinghouses.htm or emailed to fh@tva.gov.

FOR FURTHER INFORMATION CONTACT: For general information on the NEPA process, contact Matthew Higdon at the address above, by email at mshigdon@tva.gov, or by phone at (865) 632-8051. For general information on the floating houses review, contact Robert Farrell by email at rgfarrell@tva.gov or by phone at (865) 632-3024.

SUPPLEMENTARY INFORMATION: TVA is a corporate agency and instrumentality of the United States, established by an act of Congress in 1933, to foster the social and economic welfare of the people of the Tennessee Valley region and to promote the proper use and conservation of the region's natural resources. One component of this mission is the operation of the TVA reservoir system to achieve a balance of benefits including energy production, navigation, flood control, recreation, and water supply. TVA operates nine mainstream Tennessee River dams and reservoirs and forty tributary dams and reservoirs in seven states.

TVA has jurisdiction under Section 26a of the TVA Act, 16 U.S.C. 831y-1, to regulate obstructions that affect navigation, flood control, or public lands across, along, or in the Tennessee River or any of its tributaries. In particular, Section 26a of the TVA Act requires that TVA's approval be obtained prior to the construction, operation, or maintenance of any dam, appurtenant works, or other obstruction affecting navigation, flood control, or public lands or reservations. Such obstructions may include boat docks, piers, boathouses, buoys, floats, boat launching ramps, fills, water intakes, devices for discharging effluents, bridges, aerial cables, culverts, pipelines, fish attractors, shoreline stabilization projects, channel excavations, and nonnavigable houseboats (18 CFR 1304.1). In addition to TVA's Section 26a jurisdiction, and the permit conditions issued pursuant to such jurisdiction, TVA has conditions and covenants in approved land use agreements with commercial marina operators and land and shoreline policies that stipulate or restrict how TVA property and shoreline areas can be used.

In recent years, several TVA reservoirs have experienced an accelerated growth of unpermitted, new floating houses designed and used primarily for human habitation at a fixed location rather than for recreational navigation and transportation. This growth has generated additional sources of revenue for commercial marina operators. However, the proliferation of these structures also has resulted in unanticipated uses of the reservoir system and has raised concerns about impacts to public health and safety, the environment, and public recreation.

Status of Floating Houses

In 1977, TVA amended its Section 26a regulations at 18 CFR part 1304 to prohibit all new nonnavigable houseboats except for those in existence before February 15, 1978. TVA developed the following criteria in its regulations to distinguish between navigable vessels and prohibited, nonnavigable houseboats:

1. Built on a boat hull or on two or more pontoons;

2. Equipped with a motor and rudder controls located at a point on the houseboat from which there is forward visibility over a 180-degree range;

3. Compliant with all applicable State and Federal requirements relating to vessels;

4. Registered as a vessel in the State of principal use; and

5. State registration numbers clearly displayed on the vessel.

In more recent years, however, several TVA reservoirs have experienced an accelerated growth in unpermitted new floating houses, which—like the nonnavigable houseboats addressed in 1977—are designed and used primarily for human habitation at a fixed location instead of recreational navigation and transportation. TVA estimates that approximately 1,900 fixed-location structures are floating on 13 TVA reservoirs. These structures are most prevalent on Norris and Fontana Reservoirs, with approximately 900 on Norris Reservoir and approximately 500 on Fontana Reservoir. While many owners may consider their structures to comply with the five criteria previously listed, the structures neither resemble nor have the performance characteristics of navigable boats. Rather, they appear to be designed and used primarily for human habitation and in bulk would function as and resemble floating subdivisions.

Proposed Issues To Be Addressed

TVA anticipates that the major issues it will examine in the EA or EIS will include water quality; sewage and waste water discharge; solid waste; electrical systems safety; structural integrity and safety; size of structures and visual impacts; use of public waters for private, habitable use; anchorage and mooring practices; mooring structures outside approved marina harbor limits; violation of conditions in permits approved by TVA under Section 26a of the TVA Act and conditions and covenants in land use agreements and deeds; abandonment of derelict structures; socioeconomic impacts; and the suitability and effectiveness of current TVA standards, regulations, and policies. This list of issues is preliminary and is intended to facilitate public comment on the scope of the EA or EIS. TVA invites suggestions concerning the list of issues it should address.

Scoping Process

Scoping is integral to the NEPA process because it provides a forum to ensure that (1) issues are identified early and properly studied; (2) issues of little significance do not consume substantial time and effort; (3) the draft EA or EIS is thorough and balanced; and (4) delays caused by an inadequate NEPA review are avoided. With the help of the public, TVA will identify a future management strategy that can best encourage safe practices and minimize negative environmental and socioeconomic impacts. Management alternatives will be considered that may result in proposed rules or revisions to the current regulations to clarify definitions, set minimum standards for safety and environmental protection, and if appropriate, incorporate enforcement mechanisms for noncompliance.

TVA invites members of the public as well as Federal, state, and local agencies and Native American tribes to comment on the scope of the EA or EIS. Comments on the scope should be submitted no later than the date given under the DATES section of this notice. Any comments received, including names and addresses, will become part of the administrative record and will be available for public inspection.

Public meetings are scheduled to provide information about the review of floating houses, listen to stakeholders, discuss options, and determine the scope of potential issues. TVA will analyze issues raised during the scoping period and determine whether an EIS or EA is appropriate. A draft of the EA or EIS will be provided for public review and comment. TVA will notify the public of the availability of the draft EA or EIS, will solicit comments, and hold public meetings to address the review. TVA expects to release the draft EA or EIS in early 2015. The final EA or EIS along with the documentation of TVA's decision will also be issued in 2015.

Authority: 40 CFR 1501.7.

Brenda E. Brickhouse,
Vice President, Environment.

[FR Doc. 2014-09707 Filed 4-29-14; 8:45 am]

BILLING CODE 8120-01-P